DEPARTMENT OF HEALTH AND HUMAN SERVICES

Centers for Disease Control and Prevention

Disease, Disability, and Injury Prevention and Control Special Emphasis Panel (SEP): Secondary Review Panel for Translation Research; Improving Public Health Practice through Translation Research (R18), Request for Application (RFA) CD07-005

In accordance with Section 10(a)(2) of the Federal Advisory Committee Act (Pub. L. 92-463), the Centers for Disease Control and Prevention (CDC) announces the following meeting:

Time and Date: 1 p.m.-3 p.m., August 7, 2007 (Closed).

Place: Teleconference.

Status: The meeting will be closed to the public in accordance with provisions set forth in Section 552b(c)(4) and (6), Title 5 U.S.C., and the Determination of the Director, Management Analysis and Services Office, CDC, pursuant to Public Law 92-463.

Matters To Be Discussed: The meeting will include the review, discussion, and evaluation of programmatic relevance and priority of grant applications received in response to RFA CD07-005, “Improving Public Health Practice through Translation Research (R18).”

FOR FURTHER INFORMATION CONTACT: Juliana Cyril, PhD, Scientific Program Administrator, Office of Extramural Research, CDC, 1600 Clifton Road NE., Mailstop D72, Atlanta, GA 30333, Telephone 404.639.4639.

The Director, Management Analysis and Services Office, has been delegated the authority to sign Federal Register notices pertaining to announcements of meetings and other committee management activities, for both CDC and the Agency for Toxic Substances and Disease Registry.

Edward Schultz,
Acting Director, Management Analysis and Services Office, Centers for Disease Control and Prevention.

[FR Doc. E7-14148 Filed 7-20-07; 8:45 am]

BILLING CODE 4163-18-P